DEPARTMENT OF TRANSPORTATION

Federal Railroad Administration

[Docket Number FRA-2018-0078]

Notice of Application for Approval of Discontinuance or Modification of a Railroad Signal System

Under part 235 of Title 49 of the Code of Federal Regulations (CFR) and 49 U.S.C. 20502(a), this document provides the public notice that on September 19, 2018, Pan Am Railways (PAR) petitioned the Federal Railroad Administration (FRA) seeking approval to discontinue or modify a signal system. FRA assigned the petition Docket Number FRA-2018-0078.

Applicant: Pan Am Railways, Mr. Timothy R. Kunzler, AVP, Engineering, 1700 Iron Horse Park, No. Billerica, MA 01862.

The applicant's corporate name is Springfield Terminal Railway Company (ST). The applicant is the operator of the line as lessor from Boston and Maine Corporation (BM), owner. Both the applicant and BM are wholly owned subsidiaries of PAR.

ST seeks approval to discontinue the signal system on the single main track on the Northern Main Line between control point number (CPN) 1 in Chelmsford, MA, and milepost number (MPN) 28.70 in Manchester, NH.

ST proposes to discontinue the interlockings and associated appliances at CPN-9; CPN-13; CPN-18; CPN-20 and CPN-28. ST intends to replace the power-operated switch with a hand-operated switch at CPN-20 and replace the spring switch with a hand-operated switch at CPN-9. ST seeks to discontinue block signals 306/307; 352/353; 144/145; 160/161; 400/500; 539/540; and the block signal at MPN 28.70. ST plans to install holding signal, CPN-3, at MPN 28.70 and distant signal at MPN 5.

ST states the reasons for the proposed changes are that (1) no passenger service operates on the line; (2) traffic volumes do not warrant a traffic control system; (3) there are no active interchange points on this portion of the main line; and (4) to employ resources more effectively elsewhere.

Operation over this territory will be conducted in accordance with Northeast Operating Rules Advisory Committee Form D Control System rules.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by January 28, 2019 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
Robert C. Lauby,
Associate Administrator for Railroad Safety, Chief Safety Officer.

[FR Doc. 2018-27009 Filed 12-12-18; 8:45 am]

BILLING CODE 4910-06-P